DEPARTMENT OF ENERGY

Federal Energy Regulatory Commission

[Docket No. ER95-218-021]

Koch Trading Trading Inc; Notice of Filing

June 26, 2000.

Take notice that on June 21, 2000, Koch Energy Trading Inc. (KET), tendered for filing a notice of change in status, informing the Commission that KET's parent company Koch Energy, Inc. (Koch) has signed an agreement to form a partnership with Entergy Corporation (Entergy) that will own KET. KET also filed a code of conduct in accordance with the Commission's policies regarding transactions between power marketers and their public utility affiliates.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before July 12, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-16571 Filed 6-29-00; 8:45 am]

BILLING CODE 6717-01-M